DEPARTMENT OF THE INTERIOR

National Park Service

[NPS-WASO-NAGPRA-NPS0040469; PPWOCRADN0-PCU00RP14.R50000]

Notice of Inventory Completion: Wickliffe Mounds State Historic Site, Kentucky State Parks, Wickliffe, KY

AGENCY: National Park Service, Interior.

ACTION: Notice.

SUMMARY: In accordance with the Native American Graves Protection and Repatriation Act (NAGPRA), the Wickliffe Mounds State Historic Site, Kentucky State Parks, has completed an inventory of human remains and associated funerary objects and has determined that there is a cultural affiliation between the human remains and associated funerary objects and Indian Tribes or Native Hawaiian organizations in this notice.

DATES: Repatriation of the human remains and associated funerary objects in this notice may occur on or after August 11, 2025.

ADDRESSES: Send written requests for repatriation of the human remains and associated funerary objects in this notice to Carla Hildebrand, Park Manager, Wickliffe Mounds State Historic Site, Kentucky State Parks, 94 Green Street, P.O. Box 155, Wickliffe, KY 42087, email carla.hildebrand@ky.gov, and Jennifer Spence, Parks Curator, Kentucky State Parks, 94 Green Street, P.O. Box 155, Wickliffe, KY 42087, email jennifer.spence@ky.gov.

SUPPLEMENTARY INFORMATION: This notice is published as part of the National Park Service's administrative responsibilities under NAGPRA. The determinations in this notice are the sole responsibility of the Wickliffe Mounds State Historic Site, Kentucky State Parks, and additional information on the determinations in this notice, including the results of consultation, can be found in its inventory or related records. The National Park Service is not responsible for the determinations in this notice.

Abstract of Information Available

Human remains representing, at least, 524 individuals have been identified. The 41,857 associated funerary objects are: 41,795 ceramic sherds, seven effigy fragments, 41 worked lithics, four rearticulated pots, three earspools, four bone fishhooks, and three bone awls. These objects were found mixed with human remains, faunal bones, lithic debitage, and other miscellaneous materials from the excavation units. Archaeological excavations were conducted at Wickliffe Mounds State Historic Site, Wickliffe, Ballard County, Kentucky. Archaeological site #15BA4. Excavated materials were removed and curated on-site at Wickliffe Mounds State Historic Site. Radiocarbon dating, ceramic analysis, and artifact comparisons indicate that the site was occupied A.D./CE 1100 to 1350, placing its Indigenous population within the Mississippian Culture. There are no known potentially hazardous substances used to treat any of the human remains or associated funerary objects.

Cultural Affiliation

Based on the information available and the results of consultation, cultural affiliation is reasonably identified by the geographical location or acquisition history of the human remains and associated funerary objects described in this notice.

Determinations

The Wickliffe Mounds State Historic Site, Kentucky State Parks, has determined that:

• The human remains described in this notice represent the physical remains of 524 individuals of Native American ancestry.

• The 41,857 objects described in this notice are reasonably believed to have been placed intentionally with or near individual human remains at the time of death or later as part of the death rite or ceremony.

• There is a connection between the human remains and associated funerary objects described in this notice and the Miami Tribe of Oklahoma; Quapaw Nation; The Osage Nation; and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 11, 2025. If competing requests for repatriation are received, the Wickliffe Mounds State Historic Site, Kentucky State Parks must determine the most appropriate requestor prior to repatriation. Requests for joint repatriation of the human remains and associated funerary objects are considered a single request and not competing requests. The Wickliffe Mounds State Historic Site, Kentucky State Parks, is responsible for sending a copy of this notice to the Indian Tribes and Native Hawaiian organizations identified in this notice and any other consulting parties.

Authority: Native American Graves Protection and Repatriation Act, 25 U.S.C. 3003, and the implementing regulations, 43 CFR 10.10.

Dated: June 25, 2025.
Melanie O'Brien,
Manager, National NAGPRA Program.

[FR Doc. 2025-12824 Filed 7-9-25; 8:45 am]

BILLING CODE 4312-52-P